FEDERAL DEPOSIT INSURANCE CORPORATION

Agency Information Collection Activities: Submission for OMB Review; Comment Request

AGENCY: Federal Deposit Insurance Corporation (FDIC).

ACTION: Notice of information collections to be submitted to OMB for review and approval under the Paperwork Reduction Act of 1995.

SUMMARY: In accordance with the requirements of the Paperwork Reduction Act of 199 (44 U.S.C. chapter 35), the FDIC hereby gives notice that it plans to submit to the Office of Management and Budget (OMB) a request for OMB review and renewal of its “Foreign Banks” information collection (OMB No. 3064-0114).

DATES: Comments must be submitted on or before April 9, 2010.

ADDRESSES: Interested parties are invited to submit written comments. All comments should refer to the name of the collection. Comments may be submitted by any of the following methods:

• http://www.FDIC.gov/regulations/laws/federal/propose.html.

• E-mail: comments@fdic.gov.

• Mail: Leneta G. Gregorie (202.898.3719), Counsel, Federal Deposit Insurance Corporation, PA1730-3000, 550 17th Street, NW., Washington, DC 20429.

• Hand Delivery: Comments may be hand-delivered to the guard station at the rear of the 550 17th Street Building (located on F Street), on business days between 7 a.m. and 5 p.m.

All comments should refer to the relevant OMB control number. A copy of the comments may also be submitted to the FDIC Desk Officer, Office of Information and Regulatory Affairs, Office of Management and Budget, New Executive Office Building, Room 10235, Washington, DC 20503.

FOR FURTHER INFORMATION CONTACT: For further information about the information collection discussed in this notice, please contact Leneta G. Gregorie, by telephone at (202) 898-3719 or by mail at the address identified above.

SUPPLEMENTARY INFORMATION: The FDIC is proposing to renew, without change, the following information collection.

Title: Foreign Banks.

Estimated Number of Respondents and Burden Hours
FDIC collection | Hours per response | No. of respondents | Times per year | Burden hours
Application to move a branch | 8 | 1 | 1 | 8
Application for consent to operate a noninsured branch | 8 | 1 | 1 | 8
Application to conduct activities | 8 | 1 | 1 | 8
Recordkeeping | 120 | 10 | 1 | 1,200
Pledge of assets
Records | 0.25 | 10 | 4 | 10
Reports | 2 | 10 | 4 | 80
Total Burden |  |  |  | 1,314

General Description of Collection: The collection involves information obtained in connection with applications for consent to move an insured State-licensed branch of a foreign bank (12 CFR 303.184); applications to operate as a noninsured State-licensed branch of a foreign bank (12 CFR 303.186); applications from an insured State-licensed branch of a foreign bank to conduct activities which are not permissible for a Federally-licensed branch (12 CFR 303.187); internal recordkeeping requirements for such branches (12 CFR 347.209(e)(4)); and reporting and recordkeeping requirements relating to the pledge of assets by such branches (12 CFR 347.209(e)(4) and (e)(6).

Current Action: The FDIC is proposing to renew the existing information collection without change, with the exception of an adjustment of -258 hours to reflect a slight decrease in the number of respondents.

Request for Comment

Comments are invited on: (a) Whether this collections of information is necessary for the proper performance of the FDIC's functions, including whether the information has practical utility; (b) the accuracy of the estimate of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC this 3rd day of March, 2010.
Valerie J. Best,
Assistant Executive Secretary, Federal Deposit Insurance Corporation.

[FR Doc. 2010-5123 Filed 3-9-10; 8:45 am]

BILLING CODE 6714-01-P